DEPARTMENT OF HOMELAND SECURITY

U.S. Customs and Border Protection

Notice of Cancellation of Customs Broker's License

AGENCY: U.S. Customs and Border Protection, Department of Homeland Security.

ACTION: Customs broker's license cancellation.

SUMMARY: This document provides notice of the cancellation of one individual's customs broker's license with prejudice.

FOR FURTHER INFORMATION CONTACT: Everett Burns, International Trade Specialist, Broker Management Branch, Office of International Trade, (202) 863-6319.

SUPPLEMENTARY INFORMATION: This document provides notice that, pursuant to section 641 of the Tariff Act of 1930, as amended (19 U.S.C. 1641), and section 111.51(b) of title 19 of the Code of Federal Regulations (19 CFR 111.51(b)), the following customs broker's license and any and all associated permits are cancelled with prejudice.

Last Name | First Name | License No. | Port of issuance
Santos | Alejandro | 23028 | Laredo.

Dated: May 23, 2014.
Sandra L. Bell,
Acting Assistant Commissioner, Office of International Trade.

[FR Doc. 2014-12512 Filed 5-29-14; 8:45 am]

BILLING CODE 9111-14-P